DEPARTMENT OF COMMERCE

International Trade Administration

[C-570-089]

Countervailing Duty Investigation of Steel Racks From the People's Republic of China: Postponement of Preliminary Determination

AGENCY: Enforcement and Compliance, International Trade Administration, Department of Commerce.

DATES: Applicable August 28, 2018.

FOR FURTHER INFORMATION CONTACT: Eli Lovely at (202) 482-1593 or Robert Galantucci at (202) 482-2923, AD/CVD Operations, Enforcement and Compliance, Office IV, International Trade Administration, U.S. Department of Commerce, 1401 Constitution Avenue NW, Washington, DC 20230.

SUPPLEMENTARY INFORMATION:

Background

On July 10, 2018, the Department of Commerce (Commerce) initiated a countervailing duty (CVD) investigation of imports of steel racks from the People's Republic of China.¹ Currently, the preliminary determination is due no later than September 13, 2018.

¹ See Certain Steel Racks from the People's Republic: Initiation of Countervailing Duty Investigation, 83 FR 33201 (July 17, 2018) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, and determines that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Coalition of Fair Rack Imports and its individual members are Bulldog Rack Company, Hannibal Industries, Inc., Husky Rack and Wire, Ridg-U-Rak, Inc., SpaceRAK, a Division of Heartland Steel Products, Inc., Speedrack Products Group, Ltd., Steel King Industries, Inc., Tri-Boro Shelving & Partition Corp., and UNARCO Material Handling, Inc.

On August 9, 2018, the petitioner submitted a timely request that Commerce postpone the preliminary determination.³ The petitioner states that it requests postponement of the preliminary determination because the scope of the investigation does not coincide exactly with any particular HTS category, it has been time-consuming for Commerce to identify the largest producers of subject imports, and, at the time of the petitioner's request, Commerce had not yet been able to designate mandatory respondents.⁴ The petitioner states that the postponement would allow sufficient time for Commerce to conduct a full investigation regarding the subsidy benefits received by Chinese producers and exporters of subject racks.

³ Letter from the petitioner, “Re: Certain Steel Racks from the People's Republic of China: Request to Postpone Preliminary Determination,” dated August 9, 2018.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which the investigation was initiated, i.e., November 19, 2018.⁵ Pursuant to section 705(a)(1) of the Act and 19 CFR 351.210(b)(1), the deadline for the final determination of this investigation will continue to be 75 days after the date of the preliminary determination, unless postponed at a later date.

⁵ Postponing the preliminary determination to 130 days after initiation would place the deadline on Saturday, November 17, 2018. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: August 22, 2018.
Gary Taverman,
Deputy Assistant Secretary for Antidumping and Countervailing Duty Operations, performing the non-exclusive functions and duties of the Assistant Secretary for Enforcement and Compliance.

[FR Doc. 2018-18611 Filed 8-27-18; 8:45 am]

BILLING CODE 3510-DS-P